DEPARTMENT OF TRANSPORTATION

Federal Aviation Administration

Notice of Release From Federal Surplus Property and Grant Assurance Obligations at Francis S. Gabreski Airport (FOK), Westhampton Beach, NY

AGENCY: Federal Aviation Administration (FAA), DOT.

ACTION: Notice of request to release airport land.

SUMMARY: The FAA proposes to rule and invites public comment on the application for a release of approximately 25.8 acres of federally obligated airport property at Francis S. Gabreski Airport, Westhampton Beach, NY, from the National Emergency Use Provision contained in the Quitclaim Deed, dated July 17, 1972, and from conditions, reservations, and restrictions contained in Airport Improvement Program grants that would restrict the use of said land to aeronautical purposes, This acreage is a portion of land that was transferred from the United States of America to the county of Suffolk under the provisions of the Federal Property and Administrative Services Act of 1949 and the Surplus Property Act of 1944. The release will allow the airport to generate revenue through a land lease for a solar farm. The proposed use of land after the release will be compatible with the airport and will not interfere with the airport or its operation.

DATES: Comments must be received on or before October 19, 2018.

FOR FURTHER INFORMATION CONTACT: Comments on this application may be mailed or delivered to the FAA at the following address: Sukhbir Gill, Acting Manager, Federal Aviation Administration, New York Airports District Office, Federal Register Comment, I Aviation Plaza, Jamaica, NY 11434. In addition, one copy of the comment submitted to the FAA must be mailed or delivered to Anthony Ceglio, Airport Manager, Suffolk County, Department of Economic Development and Planning—Aviation Division, Administration Building #1, Westhampton Beach, NY 11978.

SUPPLEMENTARY INFORMATION: In accordance with the Wendell H. Ford Aviation Investment and Reform Act for the 21st Century (AIR 21), Public Law 106-181 (Apr. 5, 2000; 114 stat. 61), this notice must be published in the Federal Register 30 days before the Secretary may waive any condition imposed on a federally obligated airport by surplus property conveyance deeds or grant agreements. The following is a brief overview of the request.

The county of Suffolk requested a release from grant assurance obligations to allow a land-use change in use for other than aeronautical purposes of approximately 25.8 acres of airport property at Francis S. Gabreski Airport. In 1969, the Suffolk County Air Force Base was deactivated. The land was transferred to Suffolk County in 1972 via a Quitclaim Deed under the provisions of the Federal Property and Administrative Services Act of 1949 and the Surplus Property Act of 1944. The Quitclaim Deed contained a National Emergency Use Provision (NEUP) allowing the United States of America the right to make use of the land during any national emergency as declared by the President or Congress. FAA approval of this request is contingent on the Department of Defense's concurrence that the 25.8 acres of airport property is no longer required for aeronautical purposes. Since 1943, the land in question has not been required for aviation, or other government use, and is currently vacant.

Suffolk County entered into a long-term lease agreement, contingent upon FAA final approval, with a solar power company after a competitive bidding process. The solar installation would consist of an 18. I-acre site on the north side of the airport and a 7.7-acre site on the south side of the airport. The FAA has studied both sites and determined the installations will not impact the utility of the airport.

The airport will retain ownership of the 25.8 acres and will receive fair market value rent for the length of the agreement. The rental income will be devoted to airport operations and capital projects. The proposed use of the property will not interfere with the airport or its operation; and will thereby, serve the interests of civil aviation.

Issued in Jamaica, New York, on September 13, 2018.
Sukhbir Gill,
Acting Manager, New York Airports District Office.

[FR Doc. 2018-20404 Filed 9-18-18; 8:45 am]

BILLING CODE 4910-13-P